DEPARTMENT OF AGRICULTURE

Rural Utilities Service

Public Television Station Digital Transition Grant Program

AGENCY: Rural Utilities Service, USDA.

ACTION: Notice of funds availability.

SUMMARY: The Rural Utilities Service (RUS) announces a new grant program to finance the conversion of television services from analog to digital broadcasting for public television stations serving rural areas. For Fiscal Year 2003, $15 million in grants will be made available through a national competition to enable public television stations which serve substantial rural populations to continue serving their coverage areas.

DATES: Applications for grants will be accepted as of the date of this notice through September 16, 2003. All applications must be delivered to RUS or bear postmark no later than September 16, 2003. Comments regarding the information collection requirements under the Paperwork Reduction Act must be received on or before September 16, 2003, to be assured of consideration.

ADDRESSES: Applications shall be submitted to Roberta D. Purcell, Assistant Administrator, Telecommunications Program, Rural Utilities Service, USDA, STOP 1590, 1400 Independence Avenue, SW., Washington, DC 20250-1590.

FOR FURTHER INFORMATION CONTACT: Roberta D. Purcell, Assistant Administrator, Telecommunications Program, Rural Utilities Service, STOP 1590, 1400 Independence Avenue, SW., Washington, DC 20250-1590, Telephone (202) 720-9554, Facsimile (202) 720-0810.

SUPPLEMENTARY INFORMATION:

Information Collection and Recordkeeping Requirements

In accordance with the Paperwork Reduction Act of 1995 (44 U.S.C. chapter 35), RUS invites comments on this information collection for which RUS intends to request approval from the Office of Management and Budget (OMB). These requirements are pending emergency clearance by OMB.

Comments on this notice must be received by September 16, 2003.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques or other forms of information technology.

Comments may be sent to F. Lamont Heppe, Jr., Director, Program Development and Regulatory Analysis, Rural Utilities Service, U.S. Department of Agriculture, 1400 Independence Ave., SW., Stop 1522, Room 4034 South Building, Washington, DC 20250-1522.

Title: Public Television Station Digital Transition Grant Program.

Type of Request: New collection.

Estimate of Burden: Public reporting burden for this collection of information is estimated to average 21 hours per response.

Respondents: Not-for-profit institutions; State, Local or Tribal Government.

Estimated Number of Respondents: 50.

Estimated Number of Responses per Respondent: 1.12.

Estimated Total Annual Burden on Respondents: 1,168 hours.

Copies of this information collection can be obtained from Michele Brooks, Program Development and Regulatory Analysis, at (202) 690-1078.

All responses to this information collection and recordkeeping notice will be summarized and included in the request for OMB approval. All comments will also become a matter of public record.

General Information

As part of the nation's evolution to digital television, the Federal Communications Commission has ordered all television broadcasters to initiate the broadcast of a digital television signal by May 1, 2003, and to cease analog television broadcasts on December 31, 2006. About half of the nation's 357 public television stations did not meet the deadline to initiate digital broadcasting, and have received extensions to as late as May 1, 2004, to do so.

The Agriculture, Rural Development, Food and Drug Administration, and Related Agencies Appropriations Bill, 2003, authorized $51,941,000 for the Distance Learning and Telemedicine program. The Committee Recommendations specify that of the funds provided for Distance Learning and Telemedicine, $15,000,000 should be made available in grants for public broadcasting systems to meet this goal. The Committee further recognizes that these stations will have considerable financial difficulty in meeting that deadline.

Public television stations rely largely on community financial support to operate. In many rural areas the cost of the transition to digital broadcasting may exceed community resources. Since rural communities depend on public television stations for services ranging from educational course content in their schools to local news, weather, and agricultural reports, any disruption of public television broadcasting would be detrimental.

Initiating a digital broadcast requires the installation of a new antenna, transmitter or translator, and new digital program management facilities consisting of processing and storage systems. Public television stations use a combination of transmitters and translators to serve the rural public. If the public television station is to perform program origination functions, as most do, digital cameras, editing and mastering systems are required. A new studio-to-tower site communications link may be required to transport the digital broadcast signal to each transmitter and translator. The capability to broadcast some programming in a high definition television format is inherent in the digital television standard, and this can require additional facilities at the studio. These are the new components of the digital transition.

In designing the national competition for the distribution of these grant funds, priority is given to public television stations serving the areas that would be most unable to fund the digital transition without a grant. The largest sources of funding for public television stations are public membership and business contributions. In rural areas, lower population density reduces the field of membership, and rural areas have fewer businesses per capita than urban and suburban areas. Therefore, rurality is a primary predictor of the need for grant funding for a public television station's digital transition. In addition, some rural areas have per capita income levels that are lower than the national average, and public television stations covering these areas in particular are likely to have difficulty funding the digital transition. As a result, the consideration of the per capita income of a public television station's coverage area is a secondary predictor of the need for grant funding. Finally, some public television stations may have, or may meet in their communities, critical needs, and a third scoring factor for critical need will account for conditions that make these public television stations less likely to accomplish the digital transition without a grant.

Definitions

As used in this notice:

Consortium means a combination or group of public television stations.

Digital television, or DTV, means a new television system which will replace the current analog system, which was designed by and is referred to as the National Television Standards Committee, or NTSC, system. The standard for digital television was adopted by the Federal Communications Commission on December 24, 1996, after being developed by the Advanced Television Standards Committee, or ATSC.

Digital television coverage area means the geographic area that will be covered by a public television station after its digital transition. This shall be defined using the Irregular Terrain Model (Longley-Rice model) developed by and available from the National Telecommunications and Information Administration at http://elbert.its.bldrdoc.gov/itm.html. For translators only, an applicant may define the digital television coverage area using an alternative means, which must be explained fully in the application and is subject to acceptance by the RUS.

Digital transition means a conversion from analog television broadcasting to digital television broadcasting. To perform the digital transition according to Federal Communications Commission rules, a broadcaster must initiate digital television broadcasting while continuing to operate analog television broadcasting, to enable viewers time to acquire digital television reception capability, and subsequently discontinue analog television broadcasting.

Distance learning means a digital public television broadcast from one area, whether rural or not, to a school, library, home, or other end-user site located in a rural area, for the purpose of providing educational and cultural programming.

High definition television, or HDTV, means an enhanced television service which is authorized by the Federal Communications Commission as part of the digital television standard.

Public television station means a television broadcast station, which (1)(A) under the rules and regulations of the Federal Communications Commission in effect on November 2, 1978, is eligible to be licensed as a noncommercial educational broadcast station and which is owned and operated by a public agency or nonprofit private foundation, corporation, or association, or (B) is owned and operated by a municipality and which transmits only noncommercial programs for education purposes, and which (2) qualifies for Federal funding under section 396(k) of the Public Broadcasting Act of 1967. Public television station facilities, for the purposes of this Notice, include associated television translators and studio-to-transmitter/translator communications links.

Rural area means any area of the United States that is not in an urban area.

Rural Utilities Service, or RUS, is an agency of the United States Department of Agriculture which will administer the Public Television Station Digital Transition Grant Program.

Total project cost means the estimated sum of expenditures necessary for a public television station to perform the digital transition for all of the rural population in its digital television coverage area. This would include RUS grant funds requested, and funding contributions for this purpose from other organizations, including the Federal government.

Urban area means any area of the United States included within the boundaries of any incorporated or unincorporated city, village, or borough having a population in excess of 20,000 inhabitants.

Applicant Eligibility

Eligibility for grants is limited to public television stations that serve a rural area, and consortia of public television stations, where each public television station in the consortium serves a rural area. Public television stations which serve urban areas in addition to a rural area are eligible to apply for grants under this Notice.

Eligible Projects

Grants shall be made to enable applicants to perform digital transitions of television broadcasting serving rural areas. Grant funds may be used to acquire, by purchase or lease, and install, facilities and software necessary to the digital transition. Grant funds may also be used for associated engineering and environmental studies necessary to this implementation. When facilities are acquired by lease, up to three years' lease costs shall be eligible for grant funding.

Maximum Amounts of Grants

Grants shall be limited in amount to $2 million where the applicant is an individual public television station. Where the applicant is a consortium of public television stations, the grant limit is the total of $2 million for the first station plus $1 million for each additional public television station in the consortium, up to a maximum of $5 million. Only one grant will be made to a public television station or consortium.

Eligible Purposes of Grants

(a) Digital transmitters and translators, including all facilities required to initiate DTV broadcasting. All broadcast facilities acquired with grant funds shall be capable of delivering DTV programming and HDTV programming, at both the interim and final channel and power authorizations.

(b) To be an eligible grant purpose, an expenditure must be made after the application deadline specified elsewhere in this Notice. Expenditures made prior to this deadline are not eligible for funding.

(c) Facilities for which other grant funding has been approved are not eligible for funding under this program.

Ineligible Purposes

Grant funds shall not be used to fund ongoing operations or for facilities that will not be owned by the applicant, except for leased facilities as provided above. Costs of salaries, wages, and employee benefits of public television station personnel are not eligible for funding under this program.

Scoring Criteria for the Grant Competition

Grants will be tested for applicant and project eligibility, and all applications found to be eligible will be scored. Each grant will be scored in three categories: the rurality of the applicant's digital television coverage area, the average per capita income of the applicant's digital television coverage area, and critical need.

(a) Rurality is a measure of the rural character of the applicant's digital television coverage area. Points are scored through a two-step evaluation, as follows:

(1) If the total population in the applicant's digital television coverage area is less than 100,000, the application receives 50 points;

(2) If the total population in the applicant's digital television coverage area is 100,000 or more, points are scored based on the applicant's rural ratio. The rural ratio is the ratio of the rural population covered by a public television station's digital television coverage area to the total population covered by the station's digital television coverage area. Applicants shall calculate the rural ratio by subtracting the populations of all urban areas within the digital television coverage area from the total population of the digital television coverage area, and dividing the total covered population into the covered rural population. The result is rounded to the nearest whole percentage point. The score is computed as follows:

(A) If the rural ratio is 50% or less, the application receives zero (0) points.

(B) If the rural ratio is 51% to 57%, the application receives ten (10) points.

(C) If the rural ratio is 58% to 65%, the application receives twenty (20) points.

(D) If the rural ratio is 66% to 74%, the application receives thirty-five (35) points.

(E) If the rural ratio is over 74%, the application receives fifty (50) points.

(b) Per capita income (PCI) is a measure of the relative average earnings of the population in the applicant's digital television coverage area. Applicants must use the per capita personal income by county, as determined by the Bureau of Economic Analysis, U.S. Department of Commerce, at http://www.bea.doc.gov/bea/regional/reis/. The applicant shall compute the weighted average PCI for its digital television coverage area by averaging the PCIs for all counties within its digital television coverage area. The ratio of the applicant's average PCI to the National Average Per Capita Income (NAPCI) is scored as follows:

(1) If the PCI/NAPCI ratio is 80% or greater, the application receives zero (0) points.

(2) If the PCI/NAPCI ratio is 70% to 79%, the application receives ten (10) points.

(3) If the PCI/NAPCI ratio is 60% to 69%, the application receives twenty (20) points.

(4) If the PCI/NAPCI ratio is less than 60%, the application receives thirty-five (35) points.

(c) Critical need is a measure of the special difficulty an applicant may experience performing the digital transition, and the dependence the applicant's rural communities have on its services. This scoring category is intended to account for factors not covered by other categories. Up to fifteen (15) points may be scored where an applicant demonstrates, to the satisfaction of the RUS, that it cannot make the digital transition without a grant from RUS, and that rural education and other community service needs will go unmet as a result. An applicant should identify special characteristics unique to its digital television coverage area and its service relationship with its viewers, such as:

(1) Geographic or coverage characteristics of the public television station's digital television coverage area that make the digital transition unusually expensive;

(2) A severe lack of specialized human resources (such as teachers) for which digital educational television will compensate;

(3) Geographic isolation of communities which will be overcome with public television station services;

(4) Non-traditional community needs (such as adult vocational retraining) that may be met only with digital public television station broadcast capabilities;

(5) Economic conditions that place the applicant at a disadvantage in raising local funding, but which are not reflected to the per capita income levels scored above; and

(6) Historical events that have placed the public television station in severe financial stress.

The Grant Application

The grant application shall include the following:

(a) An application for federal assistance, Standard Form 424.

(b) An executive summary, not to exceed two pages, describing the public television station, its service area and offerings, its current digital transition status, and the proposed project.

(c) Evidence of the applicant's eligibility to apply under this Notice.

(d) A spreadsheet showing the total project cost, with a breakdown of items sufficient to enable RUS to determine item eligibility.

(e) A map or maps, showing the digital television coverage area for all of the applicant's transmitters and translators.

(f) The applicant's estimated rurality score, supported by a worksheet showing the population of its digital television coverage area, the derivation of the urban and rural components of that population, and a map showing the digital television coverage area and all urban areas within its boundaries. Supporting information shall list the sources of all population and coverage area information, and if the application includes computations made by a consultant or other organization outside the public television station, shall state the details of that collaboration.

(g) The applicant's estimated per capita income ratio, supported by a worksheet showing the averaging of the PCIs for all counties served.

(h) If applicable, a presentation not to exceed two pages demonstrating critical need.

(i) Evidence that the Federal Communications Commission has authorized the initiation of digital broadcasting at each of the applicant's transmitter and translator sites. In the event that a Federal Communications Commission construction permit has not been issued for one or more sites, the RUS may include those sites in the grant, and make advance of funds for that site conditional upon the submission of a construction permit.

(j) Compliance with other Federal statutes. The applicant must provide evidence of compliance with other Federal statutes and regulations, including, but not limited to the following:

(1) Executive Order (E.O.) 11246, Equal Employment Opportunity, as amended by E.O. 11375 and as supplemented by regulations contained in 41 CFR part 60;

(2) Architectural barriers;

(3) Flood hazard area precautions;

(4) Assistance and Real Property Acquisition Policies Act of 1970;

(5) Drug-Free Workplace Act of 1998 (41 U.S.C. 701);

(6) E.O.s 12549 and 12689, Debarment and Suspension; and

(7) Byrd Anti-Lobbying Amendment (31 U.S.C. 1352).

(k) Environmental impact and historic preservation. The applicant must provide details of the digital transition's impact on the environment and historic preservation, and comply with 7 CFR part 1794, which contains RUS' policies and procedures for implementing a variety of federal statutes, regulations, and executive orders generally pertaining to the protection of the quality of the human environment. The application shall contain a separate section entitled “Environmental Impact of the Digital Transition.” This shall include the Environmental Questionnaire/Certification, which is available from RUS, on which the applicant describes the impact of its digital transition. Submission of the Environmental Questionnaire/Certification does not constitute compliance with 7 CFR part 1794.

Grant Documents

The terms and conditions of grants shall be set forth in grant documents prepared by RUS. The documents shall require the applicant to own all facilities financed by the grant. Among other matters, RUS may prescribe conditions to the advance of funds that address the construction of the project and the delivery of distance learning services to rural areas.

Dated: July 11, 2003.
Hilda Gay Legg,
Administrator, Rural Utilities Service.

[FR Doc. 03-18192 Filed 7-17-03; 8:45 am]

BILLING CODE 3410-15-P